DEPARTMENT OF LABOR

Employment and Training Administration

[NAFTA-4920]

Triple-O, Inc., Roseburg, OR; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on June 1, 2001 in response to a petition filed by a company official on behalf of workers at Triple-O, Inc., Roseburg, Oregon.

This case is being terminated at the petitioner's request. Consequently, further investigation in this case would serve no purpose, and the investigation has been terminated.

Signed at Washington, DC, this 9th day of October, 2001.
Linda G. Poole,
Certifying Officer, Division of Trade Adjustment Assistance.

[FR Doc. 01-26346 Filed 10-18-01; 8:45 am]

BILLING CODE 4510-30-M